DEPARTMENT OF THE INTERIOR

National Park Service

[NPS-WASO-NAGPRA-22600; PPWOCRADN0-PCU00RP14.R50000]

Notice of Intent To Repatriate Cultural Items: American Museum of Natural History, New York, NY

AGENCY: National Park Service, Interior.

ACTION: Notice.

SUMMARY: The American Museum of Natural History, in consultation with the appropriate Indian tribes or Native Hawaiian organizations, has determined that the cultural item listed in this notice meets the definition of object of cultural patrimony. Lineal descendants or representatives of any Indian tribe or Native Hawaiian organization not identified in this notice that wish to claim this cultural item should submit a written request to the American Museum of Natural History. If no additional claimants come forward, transfer of control of the cultural item to the lineal descendants, Indian tribes, or Native Hawaiian organizations stated in this notice may proceed.

DATES: Lineal descendants or representatives of any Indian tribe or Native Hawaiian organization not identified in this notice that wish to claim these cultural items should submit a written request with information in support of the claim to the American Museum of Natural History at the address in this notice by March 27, 2017.

ADDRESSES: Nell Murphy, Director of Cultural Resources, American Museum of Natural History, Central Park West at 79th Street, New York, NY 10024-5192, telephone (212) 769-5837, email nmurphy@amnh.org.

SUPPLEMENTARY INFORMATION: Notice is here given in accordance with the Native American Graves Protection and Repatriation Act (NAGPRA), 25 U.S.C. 3005, of the intent to repatriate a cultural item under the control of the American Museum of Natural History, New York, NY, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1901, while on a museum-sponsored expedition to conduct linguistic and ethnological investigations among the Meskwaki (Fox), William Jones acquired the grizzly bear claw necklace from an unspecified individual(s) in Tama, Tama County, IA. The necklace consists of a circular core wrapped in otter fur, onto which are attached 27 grizzly bear claws, each spaced apart by 3 blue glass beads. The necklace has a long trailer that is formed from the folded pelt of the otter which hangs from the back and is decorated by three areas of beading.

Based on the museum's records and consultation with representatives of the Sac & Fox Tribe of the Mississippi in Iowa, this grizzly bear claw necklace is affiliated with the Sac & Fox Tribe of the Mississippi in Iowa. Evidence from museum records, scholarly publications, and information provided during consultation indicates that the necklace has ongoing historical, traditional, and cultural importance to the tribe, and that no individual had the right to alienate it.

Determinations Made by the American Museum of Natural History

Officials of the American Museum of Natural History have determined that:

• Pursuant to 25 U.S.C. 3001(3)(D), the 1 cultural item described above has ongoing historical, traditional, or cultural importance central to the Native American group or culture itself, rather than property owned by an individual.

• Pursuant to 25 U.S.C. 3001(2), there is a relationship of shared group identity that can be reasonably traced between the object of cultural patrimony and the Sac & Fox Tribe of the Mississippi in Iowa.

Additional Requestors and Disposition

Lineal descendants or representatives of any Indian tribe or Native Hawaiian organization not identified in this notice that wish to claim these cultural items should submit a written request with information in support of the claim to Nell Murphy, Director of Cultural Resources, American Museum of Natural History, Central Park West at 79th Street, New York, NY 10024-5192, telephone (212) 769-5837, email nmurphy@amnh.org, by March 27, 2017. After that date, if no additional claimants have come forward, transfer of control of the object of cultural patrimony to the Sac & Fox Tribe of the Mississippi in Iowa may proceed.

The American Museum of Natural History is responsible for notifying the Sac & Fox Tribe of the Mississippi in Iowa that this notice has been published.

Dated: December 19, 2016.
Melanie O'Brien,
Manager, National NAGPRA Program.

[FR Doc. 2017-03623 Filed 2-23-17; 8:45 am]

BILLING CODE 4312-52-P